DEPARTMENT OF COMMERCE

International Trade Administration

[A-520-811, A-791-829]

Certain Corrosion-Resistant Steel Products From the United Arab Emirates and South Africa: Preliminary Affirmative Determination, in Part, of Critical Circumstances

AGENCY: Enforcement and Compliance, International Trade Administration, Department of Commerce.

SUMMARY: The U.S. Department of Commerce (Commerce) preliminarily determines that critical circumstances exist with respect to imports of certain corrosion-resistant steel products (CORE) from the United Arab Emirates (UAE) and that critical circumstances do not exist with respect to imports of CORE from South Africa. The period of investigation (POI) is July 1, 2023, through June 30, 2024.

DATES: Applicable April 3, 2025.

FOR FURTHER INFORMATION CONTACT: Jacob Saude or Thomas Cloyd, AD/CVD Operations, Office VII, Enforcement and Compliance, International Trade Administration, U.S. Department of Commerce, 1401 Constitution Avenue NW, Washington, DC 20230; telephone: (202) 482-0981 or (202) 482-1246, respectively.

SUPPLEMENTARY INFORMATION:

Background

On October 2, 2025, Commerce initiated the less-than-fair-value (LTFV) investigations of CORE from the UAE and South Africa.¹ On February 18, 2025, Nucor Corporation, United States Steel Corporation, Wheeling-Nippon Steel, Inc., Steel Dynamics, Inc., and the United Steel, Paper and Forestry, Rubber, Manufacturing, Energy, Allied Industrial and Service Workers International Union, AFL-CIO, CLC (collectively, the petitioners), timely alleged that critical circumstances exist with respect to imports of CORE from the UAE and South Africa.² For a complete description of the events that followed the initiation of this investigation with respect to critical circumstances, see the Preliminary Critical Circumstances Decision Memorandum.³ The Preliminary Critical Circumstances Decision Memorandum is a public document and is on file electronically via Enforcement and Compliance's Antidumping and Countervailing Duty Centralized Electronic Service System (ACCESS). ACCESS is available to registered users at https://access.trade.gov. In addition, a complete version of the Preliminary Critical Circumstances Decision Memorandum can be accessed directly at https://access.trade.gov/public/FRNoticesListLayout.aspx.

¹ See Certain Corrosion-Resistant Steel Products from Australia, Brazil, Canada, Mexico, the Netherlands, South Africa, Taiwan, the Republic of Türkiye, the United Arab Emirates, and the Socialist Republic of Vietnam: Initiation of Less-Than-Fair-Value Investigations, 89 FR 80196 (October 2, 2024).

² See Petitioners' Letter, “Certain Corrosion-Resistant Steel Products From South Africa and the United Arab Emirates: Critical Circumstances Allegation,” dated February 18, 2025.

³ See Memorandum, “Decision Memorandum for the Preliminary Affirmative Critical Circumstances Determination in the Less-Than-Fair-Value Investigations of Certain Corrosion-Resistant Steel Products from the United Arab Emirates and South Africa,” dated concurrently with, and hereby adopted by, this notice (Preliminary Critical Circumstances Decision Memorandum).

Scope of the Investigation

The product covered by these investigations is CORE from the UAE and South Africa. For a complete description of the scope of this investigation, see Appendix I.

Preliminary Affirmative Determination of Critical Circumstances, in Part

In accordance with section 733(e) of the Tariff Act of 1930, as amended (the Act), and 19 CFR 351.206, Commerce preliminarily finds that critical circumstances exist for certain companies. For a full description of the methodology and results of Commerce's critical circumstances analysis, see the Preliminary Critical Circumstances Decision Memorandum. Our findings are summarized as follows:

Country | Case No. | Affirmative critical circumstances determination | Negative critical circumstances determination
UAE | A-520-811 | All Other Producers | Al-Ghurair Iron & Steel LLC. United Iron & Steel Company LLC.
South Africa | A-791-829 |  | Duferco Steel Processing PTY Ltd. All Other Producers.

Suspension of Liquidation

In accordance with sections 733(e)(2) of the Act, we have preliminarily found that critical circumstances exist with regard to shipments of CORE exported by certain producers and exporters from the UAE. If we make an affirmative preliminary determination that sales at LTFV have been made by these same producers/exporters at above de minimis rates,⁴ we will instruct U.S. Customs and Border Protection (CBP) to suspend liquidation of all entries of subject merchandise from these producers/exporters that are entered, or withdrawn from warehouse, for consumption on or after the date that is 90 days prior to the effective date of ”provisional measures” (e.g., the date of publication in the Federal Register of the notice of an affirmative preliminary determination of sales at LTFV at above de minimis rates). At such time, we will also instruct CBP to require a cash deposit equal to the estimated preliminary dumping margins reflected in the preliminary determination published in the Federal Register. This suspension of liquidation will remain in effect until further notice.

⁴ The preliminary determinations concerning sales at LTFV are currently scheduled to be issued on April 3, 2025.

Disclosure

Commerce intends to disclose its calculations and analysis performed to interested parties in this preliminary critical circumstances determination within five days of any public announcement or, if there is no public announcement, within five days of the date of publication of this notice in the Federal Register, in accordance with 19 CFR 351.224(b).

Public Comment

All interested parties will have the opportunity to address these determinations in case briefs to be submitted after completion of the preliminary determinations in these LTFV investigations. The timeline for the submission of case briefs and written comments will be notified to interested parties at a later date.

U.S. International Trade Commission (ITC) Notification

In accordance with section 733(f) of the Act, Commerce will notify the ITC of its preliminary critical circumstances determination.

Final Critical Circumstances Determinations

We will issue final critical circumstances determinations in conjunction with our final determinations in these LTFV investigations. All interested parties will have the opportunity to address these determinations in case briefs to be submitted after completion of the preliminary LTFV determinations

Notification to Interested Parties

This determination is issued and published in accordance with sections 733(f) and 777(i)(1) of the Act, and 19 CFR 351.205(c).

Dated: March 24, 2025.
Christopher Abbott,
Deputy Assistant Secretary for Policy and Negotiations, performing the non-exclusive functions and duties of the Assistant Secretary for Enforcement and Compliance.

Appendix I

Scope of the Investigations

The products covered by these investigations are certain flat-rolled steel products, either clad, plated, or coated with corrosion-resistant metals such as zinc, aluminum, or zinc-, aluminum-, nickel- or iron-based alloys, whether or not corrugated or painted, varnished, laminated, or coated with plastics or other non-metallic substances in addition to the metallic coating. The products covered include coils that have a width of 12.7 mm or greater, regardless of form of coil (e.g., in successively superimposed layers, spirally oscillating, etc.). The products covered also include products not in coils (e.g., in straight lengths) of a thickness less than 4.75 mm and a width that is 12.7 mm or greater and that measures at least 10 times the thickness. The products covered also include products not in coils (e.g., in straight lengths) of a thickness of 4.75 mm or more and a width exceeding 150 mm and measuring at least twice the thickness. The products described above may be rectangular, square, circular, or other shape and include products of either rectangular or non-rectangular cross-section where such cross-section is achieved subsequent to the rolling process, i.e., products which have been “worked after rolling” (e.g., products which have been beveled or rounded at the edges).

For purposes of the width and thickness requirements referenced above:

(1) Where the nominal and actual measurements vary, a product is within the scope if application of either the nominal or actual measurement would place it within the scope based on the definitions set forth above, and

(2) where the width and thickness vary for a specific product (e.g., the thickness of certain products with non-rectangular cross-section, the width of certain products with non-rectangular shape, etc.), the measurement at its greatest width or thickness applies.

Steel products included in the scope of this investigation are products in which: (1) iron predominates, by weight, over each of the other contained elements; and (2) the carbon content is 2 percent or less, by weight.

Subject merchandise also includes corrosion-resistant steel that has been further processed in a third country, including but not limited to annealing, tempering, painting, varnishing, trimming, cutting, punching and/or slitting or any other processing that would not otherwise remove the merchandise from the scope of the investigations if performed in the country of manufacture of the in-scope corrosion resistant steel.

All products that meet the written physical description are within the scope of this investigation unless specifically excluded. The following products are outside of and/or specifically excluded from the scope of this investigation:

• Flat-rolled steel products either plated or coated with tin, lead, chromium, chromium oxides, both tin and lead (“terne plate”) or both chromium and chromium oxides (“tin free steel”), whether or not painted, varnished or coated with plastics or other nonmetallic substances in addition to the metallic coating;

• Clad products in straight lengths of 4.7625 mm or more in composite thickness and of a width which exceeds 150 mm and measures at least twice the thickness;

• Certain clad stainless flat-rolled products, which are three-layered corrosion-resistant carbon steel flat-rolled products less than 4.75 mm in composite thickness that consist of a carbon steel flat-rolled product clad on both sides with stainless steel in a 20%-60%-20% ratio; and

Also excluded from the scope of the antidumping duty investigations on corrosion resistant steel from Taiwan are any products covered by the existing antidumping duty order on corrosion-resistant steel from Taiwan. See Certain Corrosion-Resistant Steel Products from India, Italy, the People's Republic of China, the Republic of Korea and Taiwan: Amended Final Affirmative Antidumping Determination for India and Taiwan, and Antidumping Duty Orders, 81 FR 48390 (July 25, 2016); Corrosion-Resistant Steel Products from Taiwan: Notice of Third Amended Final Determination of Sales at Less Than Fair Value Pursuant to Court Decision and Partial Exclusion from Antidumping Duty Order, 88 FR 58245 (August 25, 2023).

Also excluded from the scope of the antidumping duty investigations on corrosion-resistant steel from the UAE and the antidumping duty and countervailing duty investigations on corrosion-resistant steel from the Socialist Republic of Vietnam are any products covered by the existing antidumping and countervailing duty orders on corrosion-resistant steel from the People's Republic of China and the Republic of Korea and the antidumping duty order on corrosion-resistant steel from Taiwan. See Certain Corrosion-Resistant Steel Products from India, Italy, the People's Republic of China, the Republic of Korea and Taiwan: Amended Final Affirmative Antidumping Determination for India and Taiwan, and Antidumping Duty Orders, 81 FR 48390 (July 25, 2016); see also Certain Corrosion-Resistant Steel Products from India, Italy, Republic of Korea and the People's Republic of China: Countervailing Duty Order, 81 FR 48387 (July 25, 2016). This exclusion does not apply to imports of corrosion-resistant steel that are entered, or withdrawn from warehouse, for consumption in the United States for which the relevant importer and exporter certifications have been completed and maintained and all other applicable certification requirements have been met such that the entry is entered into the United States as not subject to the antidumping and countervailing duty orders on corrosion-resistant steel from the People's Republic of China, the antidumping and countervailing duty orders on corrosion-resistant steel from the Republic of Korea, or the antidumping duty order on corrosion resistant steel from Taiwan.

The products subject to the investigations are currently classified in the Harmonized Tariff Schedule of the United States (HTSUS) under item numbers: 7210.30.0030, 7210.30.0060, 7210.41.0000, 7210.49.0030, 7210.49.0040, 7210.49.0045, 7210.49.0091, 7210.49.0095, 7210.61.0000, 7210.69.0000, 7210.70.6030, 7210.70.6060, 7210.70.6090, 7210.90.6000, 7210.90.9000, 7212.20.0000, 7212.30.1030, 7212.30.1090, 7212.30.3000, 7212.30.5000, 7212.40.1000, 7212.40.5000, 7212.50.0000, 7212.60.0000, 7225.91.0000, 7225.92.0000, 7226.99.0110, and 7226.99.0130.

The products subject to the investigations may also enter under the following HTSUS item numbers: 7210.90.1000, 7215.90.1000, 7215.90.3000, 7215.90.5000, 7217.20.1500, 7217.30.1530, 7217.30.1560, 7217.90.1000, 7217.90.5030, 7217.90.5060, 7217.90.5090, 7225.99.0090, 7226.99.0180, 7228.60.6000, 7228.60.8000, and 7229.90.1000.

The HTSUS subheadings above are provided for convenience and customs purposes only. The written description of the scope of the investigations is dispositive.

[FR Doc. 2025-05694 Filed 4-2-25; 8:45 am]

BILLING CODE 3510-DS-P